DEPARTMENT OF AGRICULTURE

Grain Inspection, Packers and Stockyards Administration

Cancellation of Lewiston Grain Inspection Service, Inc. Designation; Opportunity for Designation in the Lewiston, ID Area

AGENCY: Grain Inspection, Packers and Stockyards Administration, USDA.

ACTION: Notice.

SUMMARY: Lewiston Grain Inspection Service, Inc. (Lewiston) is designated to provide official inspection services through September 30, 2012, under the United States Grain Standards Act, as amended (USGSA). Lewiston informed the Grain Inspection, Packers and Stockyards Administration (GIPSA) that it would cease providing official inspection services effective December 31, 2010. Accordingly, GIPSA is announcing that Lewiston's designation terminates effective December 31, 2010. GIPSA is also asking persons or governmental agencies interested in providing official services in the area presently served by Lewiston to submit an application for designation.

DATES: Applications must be received by February 3, 2011.

ADDRESSES: Submit applications concerning this notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Hand Delivery/Courier Address: Karen W. Guagliardo, Review Branch Chief, Compliance Division, GIPSA, USDA, Room 1647-S, 1400 Independence Avenue, SW., Washington, DC 20250.

• Mail: Karen W. Guagliardo, Review Branch Chief, Compliance Division, GIPSA, USDA, STOP 3604, 1400 Independence Avenue, SW., Washington, DC 20250-3604.

• Fax: Karen W. Guagliardo, 202-690-2755.

• E-mail: Karen.W.Guagliardo@usda.gov.

Read Applications: All applications will be available for public inspection at the office above during regular business hours (7 CFR 1.27(c)).

FOR FURTHER INFORMATION CONTACT: Karen W. Guagliardo, 202-720-8262 or Karen.W.Guagliardo@usda.gov.

SUPPLEMENTARY INFORMATION: Section 7(f)(1) of the United States Grain Standards Act (USGSA) (7 U.S.C. 71-87k) authorizes GIPSA's Administrator to designate a qualified applicant to provide official services in a specified area after determining that the applicant is better able than any other applicant to provide such official services. Under section 7(g)(1) of the USGSA, designations of official agencies are effective for 3 years unless terminated by the Secretary, but may be renewed according to the criteria and procedures prescribed in section 7(f) of the Act.

Areas Open for Designation

Pursuant to Section 7(f)(2) of the Act, the following geographic areas in the States of Idaho and Oregon are assigned to this official agency:

• The northern half of the State of Idaho down to the northern boundaries of Adams, Valley, and Lemhi Counties.

• The entire State of Oregon, except those export port locations within the State that are serviced by GIPSA.

Opportunity for Designation

Interested persons or governmental agencies may apply for designation to provide official services in the geographic areas specified above under the provisions of section 7(f) of the USGSA and 7 CFR 800.196(d). To apply for designation or for more information, contact Karen W. Guagliardo at the address listed above or visit GIPSA's Web site at http://www.gipsa.usda.gov.

We consider applications, comments, and other available information when determining which applicant will be designated.

Authority: 7 U.S.C. 71-87k.

J. Dudley Butler,
Administrator, Grain Inspection, Packers and Stockyards Administration.

[FR Doc. 2010-33140 Filed 1-3-11; 8:45 am]

BILLING CODE 3410-KD-P